ENVIRONMENTAL PROTECTION AGENCY

[EPA-HQ-OAR-2013-0146; FRL-9927-64-OAR]

Release of Risk and Exposure Assessment Planning Document for the Review of the Primary National Ambient Air Quality Standards for Nitrogen Dioxide

AGENCY: Environmental Protection Agency (EPA).

ACTION: Notice of availability.

SUMMARY: The Environmental Protection Agency (EPA) is reviewing the primary National Ambient Air Quality Standards (NAAQS) for Nitrogen Dioxide (NO2). On or about May 4, 2015, the EPA will make available for public review the document titled Review of the Primary National Ambient Air Quality Standards for Nitrogen Dioxide: Risk and Exposure Assessment Planning Document (REA Planning Document). This plan presents considerations and the proposed approach for conducting quantitative analyses of NO2 exposures or health risks in the current review of the primary NO2 NAAQS. This planning document is intended to facilitate Clean Air Scientific Advisory Committee (CASAC) advice and public input in advance of reaching decisions on these quantitative analyses.

DATES: Comments should be received on or before July 3, 2015.

ADDRESSES: The Risk and Exposure Assessment Planning Document will be available primarily via the Internet at http://www.epa.gov/ttn/naaqs/standards/nox/s_nox_2012_pd.html. Submit your comments, identified by Docket ID No. EPA-HQ-OAR-2013-0146, by one of the following methods:

• Federal eRulemaking Portal: http://www.regulations.gov. Follow the on-line instructions for submitting comments.

• Email: a-and-r-Docket@epa.gov. Include Docket ID No. EPA-HQ-OAR-2013-0146 in the subject line of the message.

• Fax: (202) 566-9744.

• Mail: Docket ID No. EPA-HQ-OAR-2013-0146, Environmental Protection Agency (Mail Code: 28221T), 1200 Pennsylvania Avenue NW., Washington, DC 20460. Please provide a total of two copies.

• Hand Delivery: EPA Docket Center, EPA/DC, WJC West Building, Room 3334, 1301 Constitution Avenue NW., Washington, DC. Such deliveries are only accepted during the docket's normal hours of operation, and special arrangements should be made for deliveries of boxed information.

Instructions: Direct your comments to Docket ID No. EPA-HQ-OAR-2013-0146. The EPA's policy is that all comments received will be included in the public docket without change and to make the comments available online at http://www.regulations.gov, including any personal information provided, unless the comment includes information claimed to be Confidential Business Information (CBI) or other information whose disclosure is restricted by statute. Do not submit information through http://www.regulations.gov or email that you consider to be CBI or otherwise protected. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit EPA's Docket Center homepage at http://www.epa.gov/epahome/dockets.htm.

Docket: Documents in the docket are listed in the http://www.regulations.gov index. Although listed in the index, some information is not publicly available, e.g., CBI or other information whose disclosure is restricted by statute. Certain other materials, such as copyrighted material, will be made publicly available only in hard copy. Publicly available docket materials are available either electronically in http://www.regulations.gov or in hard copy at Docket ID No. EPA-HQ-OAR-2013-0146, EPA/DC, WJC West Building, Room 3334, 1301 Constitution Ave. NW., Washington, DC. The Public Reading Room is open from 8:30 a.m. to 4:30 p.m., Monday through Friday, excluding legal holidays. The telephone number for the Public Reading Room is (202) 566-1744, and the telephone number for the Air and Radiation Docket and Information Center is (202) 566-1742.

FOR FURTHER INFORMATION CONTACT: Dr. Scott Jenkins, Office of Air Quality Planning and Standards (Mail Code C504-06), U.S. Environmental Protection Agency, Research Triangle Park, NC 27711; telephone number: 919-541-1167; fax number: 919-541-5315; email: jenkins.scott@epa.gov.

SUPPLEMENTARY INFORMATION:

I. General Information

A. What should I consider as I prepare my comments for the EPA?

1. Submitting CBI. Do not submit this information to the EPA through http://regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing your Comments. When submitting comments, remember to:

• Identify the rulemaking by docket number and other identifying information (subject heading, Federal Register date and page number).

• Follow directions. The agency may ask you to respond to specific questions or organize comments by reference a Code of Federal Regulations (CFR) part or section number.

• Explain why you agree or disagree; suggest alternative and substitute language for your requested changes.

• Describe any assumption and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the comment period deadline identified.

II. Information About the Document

Two sections of the Clean Air Act (CAA) govern the establishment and revision of the NAAQS. Section 108 (42 U.S.C. 7408) directs the Administrator to identify and list certain air pollutants and then to issue air quality criteria for those pollutants. The Administrator is to list those air pollutants that in her “judgment, cause or contribute to air pollution which may reasonably be anticipated to endanger public health or welfare;” “the presence of which in the ambient air results from numerous or diverse mobile or stationary source;” and “for which * * *. [the Administrator] plans to issue air quality criteria * * *. ” Air quality criteria are intended to “accurately reflect the latest scientific knowledge useful in indicating the kind and extent of all identifiable effects on public health or welfare which may be expected from the presence of [a] pollutant in the ambient air * * *. ” (42 U.S.C. 7408(b)). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and revise the NAAQS, if appropriate, based on the revised criteria. Section 109(d)(2) requires that an independent scientific review committee “shall complete a review of the criteria * * *. and the national primary and secondary ambient air quality standards * * *. and shall recommend to the Administrator any new * * *. standards and revisions of the existing criteria and standards as may be appropriate * * *. .” Since the early 1980s, this independent review function has been performed by the CASAC.

Presently, the EPA is reviewing the primary NAAQS for NO2. The first draft Integrated Science Assessment for Oxides of Nitrogen (Health Criteria) (ISA) was released on November 22, 2013 (78 FR 70040), and the draft Integrated Review Plan for the Primary NAAQS for Nitrogen Dioxide (IRP) (79 FR 7184) was released on February 10, 2014. Both documents were reviewed by CASAC at a public meeting in March 2014, and announced in a separate notice (79 FR 8701). The final IRP was released in June 2014 (79 FR 36801), and is available at http://www.epa.gov/ttn/naaqs/standards/nox/s_nox_2012_pd.html. The second draft ISA was made available to both CASAC and the public on January 29, 2015 (80 FR 5110).

The REA Planning Document considers the degree to which important uncertainties identified in quantitative analyses from previous reviews have been addressed by newly available scientific evidence, tools, or information, including those in the second draft ISA. Based on these considerations, the document reaches preliminary conclusions on the extent to which updated quantitative analyses of exposures or health risks are warranted in the current review. For updated analyses that are supported, this planning document presents anticipated approaches to conducting such analyses and, where appropriate, preliminary results. This document is available on the EPA's Technology Transfer Network Web site at http://www.epa.gov/ttn/naaqs/standards/nox/s_nox_2012_pd.html.

The REA Planning Document has been made available for review by CASAC and for public comment. Comments should be submitted to the docket, as described above. The CASAC review of this planning document and the second draft ISA is scheduled for June 2-3, 2015. A separate Federal Register notice will provide details about this meeting and the process for participation.

Dated: May 4, 2015.
Stephen D. Page,
Director, Office of Air Quality Planning and Standards.

[FR Doc. 2015-11566 Filed 5-12-15; 8:45 am]

BILLING CODE 6560-50-P